DEPARTMENT OF ENERGY

Federal Energy Regulatory Commission

Combined Notice of Filings #1

May 23, 2006.

Take notice that the Commission received the following electric rate filings.

Docket Numbers: ER01-48-006.

Applicants: Powerex Corp.

Description: Powerex Corp. submits a notice of a non-material change in status with respect to events that have taken place since the date of its last change in status filing.

Filed Date: May 12, 2006.

Accession Number: 20060519-0127.

Comment Date: 5 p.m. Eastern Time on Friday, June 2, 2006.

Docket Numbers: ER01-1760-005.

Applicants: Haleywest L.L.C.

Description: Haleywest L.L.C. submits an amendment to its March 27, 2006 compliance filing for its market-based rate schedule pursuant to FERC's February 2, 2006 Order.

Filed Date: May 9, 2006.

Accession Number: 20060519-0063.

Comment Date: 5 p.m. Eastern Time on Tuesday, May 30, 2006.

Docket Numbers: ER01-2214-007.

Applicants: Entergy Services Inc.

Description: Entergy Services, Inc. acting as agent for Entergy Operating Companies submits a refund report related to refunds ordered by FERC.

Filed Date: May 11, 2006.

Accession Number: 20060519-0157.

Comment Date: 5 p.m. Eastern Time on Thursday, June 1, 2006.

Docket Numbers: ER01-3103-012; ER04-617-001; ER04-809-001; ER99-3911-004; ER02-1884-004; ER99-3502-005.

Applicants: Energy Investors Funds Group LLC; Project Finance Fund III, L.P., United States Power Fund L.P.; United States Power Fund II, L.P.; USPF II Institutional Fund, L.P.

Description: Energy Investors Funds Group LLC et al. submit a Notice of Change in Status to reflect various changes in upstream ownership.

Filed Date: May 15, 2006.

Accession Number: 20060519-0118.

Comment Date: 5 p.m. Eastern Time on Monday, June 5, 2006.

Docket Numbers: ER06-685-002.

Applicants: UGI Development Company.

Description: UGI Utilities, Inc. submits an amendment to its March 28, 2006 compliance filing.

Filed Date: May 11, 2006.

Accession Number: 20060519-0089.

Comment Date: 5 p.m. Eastern Time on Thursday, June 1, 2006.

Docket Numbers: ER03-693-003.

Applicants: ISG Sparrows Point LLC.

Description: ISG Sparrows Point LLC submits its triennial updated power market analysis in compliance with FERC's order issued May 7, 2003 et al.

Filed Date: May 9, 2006.

Accession Number: 20060519-0062.

Comment Date: 5 p.m. Eastern Time on Tuesday, May 30, 2006.

Docket Numbers: ER06-974-000.

Applicants: MEP Flora Power, LLC.

Description: Aquila Merchant Services, Inc on behalf of MEP Flora Power, LLC. submits a notice of cancellation of its Rate Schedule FERC No. 1 and on May 10, 2006 submitted an errata to its May 9, 2006 filing.

Filed Dates: May 9, 2006 and May 10, 2006.

Accession Numbers: 20060518-0202 and 20060515-0004.

Comment Date: 5 p.m. Eastern Time on Tuesday, May 30, 2006.

Docket Numbers: ER06-990-000.

Applicants: Wisconsin Public Service Corporation.

Description: Wisconsin Public Service Corp. submits amendments to update the FERC Form 1 references in its formula rates for the W-1A and W-2A Tariffs and Rate Schedule No. 51.

Filed Date: May 11, 2006.

Accession Number: 20060519-0087.

Comment Date: 5 p.m. Eastern Time on Thursday, June 1, 2006.

Docket Numbers: ER06-991-000.

Applicants: Texas Power Marketer.

Description: Texas Power Marketer submits its petition for acceptance of initial rate schedule, waivers and blanket authority.

Filed Date: May 11, 2006.

Accession Number: 20060519-0122.

Comment Date: 5 p.m. Eastern Time on Thursday, June 1, 2006.

Docket Numbers: ER06-992-000.

Applicants: Otter Tail Power Company.

Description: Otter Tail Power Co. submits its Contract for Interconnection and Load Control Boundary Agreement with Western Area Power Administration.

Filed Date: May 11, 2006.

Accession Number: 20060519-0123.

Comment Date: 5 p.m. Eastern Time on Thursday, June 1, 2006.

Docket Numbers: ER06-993-000.

Applicants: Orion Power MidWest, L.P.

Description: Orion Power MidWest, L.P. submits tariff sheets to implement Cost of Service Recovery Rates for the 244 megawatt combined cycle generating facility at its Brunot Island generating station.

Filed Date: May 15, 2006.

Accession Number: 20060519-0086.

Comment Date: 5 p.m. Eastern Time on Monday, June 5, 2006.

Docket Numbers: ER06-994-000; ER06-995-000.

Applicants: Western Kentucky Energy Corp.; LG&E Energy Marketing Inc.

Description: Western Kentucky Energy Corp. submits notice of succession and LG&E Energy Marketing Inc. submits notice of cancellation of Rate Schedule No. 40.

Filed Date: May 15, 2006 and May 16, 2006.

Accession Number: 20060519-0155.

Comment Date: 5 p.m. Eastern Time on Monday, June 5, 2006.

Docket Numbers: ER06-996-000.

Applicants: Public Service Electric & Gas Company.

Description: Public Service Electric & Gas Co. submits four Interconnection Agreements with Camden Cogen, LP et al.

Filed Date: May 16, 2006.

Accession Number: 20060519-0091.

Comment Date: 5 p.m. Eastern Time on Tuesday, June 6, 2006.

Docket Numbers: ER06-997-000.

Applicants: Wisconsin Electric Power Company.

Description: Wisconsin Electric Power Co. submits a proposed Restated Power Service Agreement with Alger Delta Cooperative Association and on May 15, 2006 submitted the original signed Certificate of Attestation to this filing.

Filed Date: May 12, 2006 and May 15, 2006.

Accession Number: 20060519-0090.

Comment Date: 5 p.m. Eastern Time on Friday, June 2, 2006.

Docket Numbers: ER06-998-000.

Applicants: Wisconsin Electric Power Company.

Description: Wisconsin Electric Power Co. submits its proposed Restated Power Service Agreement w/City of Crystal Falls, Michigan and on May 15, 2006 submitted the original signed Certificate of Attestation to this filing.

Filed Dates: May 12, 2006 and May 15, 2006.

Accession Numbers: 20060519-0145 and 20060519-0144.

Comment Date: 5 p.m. Eastern Time on Friday, June 2, 2006.

Docket Numbers: ER06-999-000.

Applicants: Wisconsin Electric Power Company.

Description: Wisconsin Electric Power Co. submits its proposed Restated Power Service Agreement w/Ontonagon County Electrification Association and on May 15, 2006 submitted the original signed Certificate of Attestation to this filing.

Filed Dates: May 12, 2006 and May 15, 2006.

Accession Numbers: 20060519-0139 and 20060519-0138.

Comment Date: 5 p.m. Eastern Time on Friday, June 2, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-8324 Filed 5-30-06; 8:45 am]

BILLING CODE 6717-01-P